ENVIRONMENTAL PROTECTION AGENCY

[EPA-HQ-OAR-2010-1064; FRL-9797-6]

Radiation Protection Guidance for Diagnostic and Interventional X-Ray Procedures

AGENCY: Environmental Protection Agency (EPA).

ACTION: Notice of availability.

SUMMARY: The Environmental Protection Agency (EPA or the Agency) is announcing the availability of, and soliciting public comments for 60 days, on Radiation Protection Guidance for Diagnostic and Interventional X-Ray Procedures. This document is Federal Guidance Report No. 14. It replaces Federal Guidance Report No. 9, “Radiation Protection Guidance for Diagnostic X-rays,” which was released in October 1976. The recommendations contained in this report represent consensus judgment of an interagency Medical Work Group for the practice of diagnostic and interventional imaging by Federal agencies.

DATES: Comments must be received on or before June 3, 2013.

ADDRESSES: Submit your comments, identified by Docket ID No. EPA-HQ-OAR-2010-1064, by one of the following methods:

• www.regulations.gov: Follow the online instructions for submitting comments.

• Email: to a-and-r-docket@epa.gov

• Fax: (202) 566-1741

• Mail: Air and Radiation Docket and Information Center, Environmental Protection Agency, Mailcode: 6102T, 1200 Pennsylvania Ave. NW, Washington, DC 20460

Instructions: Direct your comments to Attn: Docket ID No. EPA-HQ-OAR-2010-1064. The agency's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available electronically at www.regulations.gov. As provided in EPA's regulations at 40 CFR Part 2, and in accordance with normal EPA docket procedures, if copies of any docket materials are requested, a reasonable fee may be charged for photocopying.

FOR FURTHER INFORMATION CONTACT: Michael Boyd, Radiation Protection Division, Mail Code 6608J, U.S. Environmental Protection Agency, 1200 Pennsylvania Avenue, Washington, DC, 20460; telephone number: 202-343-9395; email address: boyd.mike@epa.gov.

SUPPLEMENTARY INFORMATION:

I. General Information

A. What should I consider as I prepare my comments for EPA?

1. Submitting CBI. Do not submit CBI information to EPA through www.regulations.gov or email. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

This document is Federal Guidance Report No. 14 (FGR 14), “Radiation Protection Guidance for Diagnostic and Interventional X-ray Procedures.” It replaces Federal Guidance Report No. 9, “Radiation Protection Guidance for Diagnostic X-rays,” which was released in October 1976. Federal Guidance reports were initiated under the Federal Radiation Council (FRC), which was formed in 1959, through Executive Order 10831. A decade later its functions were transferred to the Administrator of the newly formed Environmental Protection Agency (EPA) as part of Reorganization Plan No. 3 of 1970. Under these authorities it is the responsibility of the Administrator to “advise the President with respect to radiation matters, directly or indirectly affecting health, including guidance for all Federal agencies in the formulation of radiation standards and in the establishment and execution of programs of cooperation with States.” (42 U.S.C. 2021(h)) While EPA believes that this guidance will be useful to the broader medical community, the recommendations in FGR 14 are specifically directed to the use of diagnostic and interventional x-rays in federal facilities. A draft version of FGR 14 is now available for review and comment. It can be found on the agency's Radiation Protection Web site at: http://www.epa.gov/radiation.

Dated: March 27, 2013.
Michael P. Flynn,
Director, Office of Radiation and Indoor Air.

[FR Doc. 2013-07765 Filed 4-2-13; 8:45 am]

BILLING CODE 6560-50-P